DEPARTMENT OF COMMERCE

National Institute of Standards and Technology

Manufacturing Extension Partnership Advisory Board

AGENCY: National Institute of Standards and Technology, Commerce.

ACTION: Notice of partially closed meeting.

SUMMARY: The National Institute of Standards and Technology (NIST) Manufacturing Extension Partnership (MEP) Advisory Board will meet on Wednesday, June 8, 2022 from 9:00 a.m. to 3:00 p.m. Central Time. The meeting is partially closed to the public in order to protect the confidential and proprietary data to be examined and discussed at the meeting.

DATES: The MEP Advisory Board will meet on Wednesday, June 8, 2022, from 9:00 a.m. to 3:00 p.m. Central Time. The portion of the meeting that is closed to the public will take place on Wednesday, June 8, 2022 from 11:30 a.m. to 1:00 p.m. Central Time.

ADDRESSES: The meeting will be held at the Hyatt Regency Tulsa Downtown, 100 East Second Street, Tulsa, Oklahoma 74103. Please note admittance instructions in the SUPPLEMENTARY INFORMATION section below. This meeting could switch to a virtual format. Interested parties should be sure to check the NIST MEP Advisory Board website for the most up-to-date information at http://www.nist.gov/mep/about/advisory-board.cfm. Everyone who registers and provides contact information will receive notice if there is a change to the meeting venue from in-person to virtual.

FOR FURTHER INFORMATION CONTACT: Cheryl L. Gendron, Manufacturing Extension Partnership, National Institute of Standards and Technology, 100 Bureau Drive, Mail Stop 4800, Gaithersburg, Maryland 20899-4800; telephone number (301) 975-2785; email: cheryl.gendron@nist.gov.

SUPPLEMENTARY INFORMATION: The MEP Advisory Board is authorized under Section 3003(d) of the America COMPETES Act (Pub. L. 110-69), as amended by the American Innovation and Competitiveness Act, Public Law 114-329 sec. 501 (2017), and codified at 15 U.S.C. 278k(m). The Hollings Manufacturing Extension Partnership Program (Program) is a unique program consisting of Centers in all 50 states and Puerto Rico with partnerships at the federal, state, and local levels. By statute, the MEP Advisory Board provides the NIST Director with: (1) advice on the activities, plans and policies of the Program; (2) assessments of the soundness of the plans and strategies of the Program; and (3) assessments of current performance against the plans of the Program.

Background information on the MEP Advisory Board is available at http://www.nist.gov/mep/about/advisory-board.cfm.

Pursuant to the Federal Advisory Committee Act, as amended, 5 U.S.C. app., notice is hereby given that the MEP Advisory Board will meet on Wednesday, June 8, 2022 from 9:00 a.m. to 3:00 p.m. Central Time. The meeting will be open to the public except for the closed session. The public portion of the meeting will include an update on MEP programmatic operations, as well as a discussion on current activities related to the MEP National Network™ 2017-2022 Strategic Plan. During the closed session on Wednesday, June 8, 2022 from 11:30 a.m. to 1:00 p.m. Central Time the MEP Advisory Board will discuss the status of developing the MEP National Network™ 2023-2028 Strategic Plan.

The agenda may change to accommodate committee business. The final agenda will be posted on the MEP Advisory Board website at http://www.nist.gov/mep/about/advisory-board.cfm.

Individuals and representatives of organizations who would like to offer comments and suggestions related to the MEP Advisory Board's business are invited to request a place on the agenda. Approximately 15 minutes will be reserved for public comments at the end of the meeting. Speaking times will be assigned on a first-come, first-served basis. The amount of time per speaker will be determined by the number of requests received but is likely to be no more than three to five minutes each. Requests must be submitted by email to cheryl.gendron@nist.gov and must be received by June 6, 2022 to be considered. The exact time for public comments will be included in the final agenda that will be posted on the MEP Advisory Board website at http://www.nist.gov/mep/about/advisory-board.cfm. Questions from the public will not be considered during this period. Speakers who wish to expand upon their oral statements, those who wished to speak but could not be accommodated on the agenda or those who are/were unable to attend the meeting are invited to submit written statements electronically by email to cheryl.gendron@nist.gov.

The Acting Chief Financial Officer and Assistant Secretary for Administration, with the concurrence of the Assistant General Counsel for Employment, Litigation, and Information, formally determined, pursuant to Section 10(d) of the Federal Advisory Committee Act, as amended by Section 5(c) of the Government in the Sunshine Act, Public Law 94-409, that the meeting of the MEP Advisory Board may be partially closed to the public in accordance with 5 U.S.C. 552b(c)(4), because the meeting is likely to disclose trade secrets and commercial or financial information obtained from a person and that are privileged or confidential. During the closed session, the Board will receive an update and initial findings from data analysis that was used to draft the MEP National Network™ 2023-2028 Strategic Plan, which contains confidential and proprietary information. The data analyzed includes Personally Identifiable Information (PII) and Business Identifiable Information (BII) from MEP Centers' clients as well as additional confidential material that is managed by an independent third party for privacy and proprietary sensitivities. This data has been used to provide vital criterion and selection of an architecture for the new 2023-2028 strategic plan.

Pursuant to 41 CFR 102-3.150(b), the Federal Register notice for this meeting is being published fewer than 15 calendar days prior to the meeting as exceptional circumstances exist. It is imperative that the meeting be held on June 8, 2022 to accommodate the scheduling priorities of the key participants. In addition, MEP did not become aware until recently that they would need to discuss the MEP National Network™ 2023-2028 Strategic Plan at the June 2022 MEP Advisory Board Meeting, which necessitated commencing meeting closure procedures in accordance with 41 CFR 102-3.155; the original anticipate date for the discussion was August 2022. The Federal Register notice could not be published previously due to the need to accommodate the key participants' schedules, as well as the logistical and scheduling challenges of arranging for an in-person meeting as well as potential virtual options due to the COVID-19 pandemic.

Admittance Instructions: Anyone wishing to attend the MEP Advisory Board meeting must submit their name, email address and phone number to Cheryl Gendron (Cheryl.Gendron@nist.gov or 301-975-2785) no later than Monday, June 6, 2022, 5:00 p.m. Eastern Time.

Alicia Chambers,
Executive Secretariat.

[FR Doc. 2022-12130 Filed 6-3-22; 8:45 am]

BILLING CODE 3510-13-P